DEPARTMENT OF AGRICULTURE

Forest Service

Northwest Sacramento Province Advisory Committee (PAC); Notice of Meeting

AGENCY: Forest Service.

ACTION: Notice of meeting.

SUMMARY: The Northwest Sacramento Province Advisory Committee will meet on June 14, 2001. The meeting starts at 9:30 a.m. in the BLM Conference Room, 355 Hemsted Drive, Redding, CA. The Advisory Committee was appointed by the Secretary of Agriculture to provide recommendations on implementation of the Northwest Plan Record of Decision (“President's Forest Plan”).

Agenda items to be covered include: (1) FERC relicensing; (2) Survey and Manage Final SEIS; (3) Red Legged Frog Critical Habitat issue; (4) Update on proposed Resource Advisory Committees (RAC's); (5) Using Clear Creek full ecosystem landscape management demonstration project; (6) Open agenda time; (7) NPS presentation plan; (8) Fire/Fuels Initiative update. Interested citizens are encouraged to attend.

FOR FURTHER INFORMATION CONTACT: Direct questions regarding this meeting to Sharon Heywood, Designated Federal Official for Northwest Sacramento Province Advisory Committee, USDA Forest Service, 2400 Washington Ave., Redding CA 96001 (503) 242-2200 or Duane Lyon, Coordinator, Northwest Sacramento Province Advisory Committee, USDA Forest Service, 2400 Washington, Ave., Redding, CA 96001 (530) 242-2207.

Dated: May 7, 2001.
J. Sharon Heywood,
Forest Supervisor.

[FR Doc. 01-14945 Filed 6-13-01; 8:45 am]

BILLING CODE 3401-FR-M